DEPARTMENT OF DEFENSE

Department of the Navy

[Docket ID: USN-2013-0048]

Proposed Collection; Comment Request

AGENCY: Department of the Navy, DoD.

ACTION: Notice.

SUMMARY: In compliance with Section 3506(c)(2)(A) of the Paperwork Reduction Act of 1995, the Department of the Navy announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 4, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Judge Advocate General, ATTN: Code 61. 1322 Patterson Ave SE., Suite 3000, Washington Navy Yard, DC 20374-5066, or call Code 61 at 202-685-7715.

SUPPLEMENTARY INFORMATION:

Title; Associated Form; and OMB Number: Navy JAG Corps Application; OMB Control Number 0703-XXXX.

Needs and Uses: The U.S. Navy Judge Advocate General requires a method to collect information from applicants to confirm their eligibility to serve and determine which applicants are best suited to joining the Navy JAG Corps.

Affected Public: Individuals or households.

Annual Burden Hours: 1200 hours.

Number of Respondents: 800.

Responses per Respondent: 1.

Average Burden per Response: 1.5 hours.

Frequency: Semi-Annual.

The Navy JAG Corps has two distinct application deadlines per year; one in the Fall and one in late Winter or early Spring. Application deadlines will be posted on the Navy JAG Corps official Web site. The online application is open for several months prior to each application deadline.

This online application is used by the Navy JAG Corps to help determine which applicants are best suited for commissioning as a Navy JAG Corps officer. The online application consists of an online questionnaire as well as several documents which must be uploaded by the applicant. The questionnaire requires applicants to provide their home and mailing addresses, phone number, email address, personal academic history (e.g., colleges attended, graduate or law schools attended, grade point average, and Law School Admissions Test (LSAT) scores), foreign language fluency, as well as information regarding their participation in or association with any extra-curricular activities, clubs, sports, or organizations. Applicants must also provide information about any history of criminal conduct (being arrested for, charged with, or convicted of any misdemeanor or felony) or any history of drug use or drug/alcohol counseling. In addition, applicants are asked to provide their employment history, including any prior military service or legal employment, and whether or not the applicant has ever left employment under unfavorable circumstances. Finally, the applicants are asked to write a statement concerning their motivation for applying to the Navy JAG Corps and to select from a list of options the different reasons for applying. In addition to answering the questions and providing the information required in the online questionnaire, applicants must upload the following documentation to complete their application: A full length color photo, college and law school transcripts for each school attended, their LSAT Score Report, a complete resume, and at least two letters of recommendation. Applicants with prior military service are required to upload their “Certificate of Release or Discharge from Active Duty” (DD-214) or other records substantiating military service, as well as any fitness reports or performance evaluations received. Once the online application is completed, applicants are required to set up a JAG Corps Structured Interview. Information on setting up an interview can be found at the Navy JAG Corps Web site, www.jag.navy.mil. Once the applicant is interviewed, answers to the interview questions are captured on the OPNAV 1070/5 JAG Corps Structured Interview Assessment Form and objectively scored.

Dated: December 30, 2013.
Aaron Siegel,
Alternate OSD Federal Register Liaison Officer, Department of Defense.

[FR Doc. 2013-31460 Filed 1-2-14; 8:45 am]

BILLING CODE 5001-06-P